DEPARTMENT OF JUSTICE

Drug Enforcement Administration

John Arthur Thomassen, D.D.S.; Revocation of Registration

The Deputy Assistant Administrator, Office of Diversion Control, Drug Enforcement Administration (DEA), issued an Order to Show Cause (OTSC), dated February 6, 2001, by certified mail to John Arthur Thomassen, D.D.S., (Respondent) notifying him of an opportunity to show cause as to why the DEA should not revoke his DEA Certificate of Registration BT0666000, pursuant to 21 U.S.C. 824(a)(3), and deny any pending applications for renewal of this registration, pursuant to 21 U.S.C. 823(f), for the reason that Respondent's license to practice medicine in the jurisdiction in which Respondent practices, California, was revoked.

By letter filed March 9, 2001, Respondent, through counsel, requested a hearing in this matter.

On March 12, 2001, administrative Law Judge Gail A. Randall issued an Order for Prehearing Statements. On March 15, 2001, the Government filed a motion seeking summary disposition, arguing that Respondent's license to practice medicine, and therefore, to handle controlled substances in the jurisdiction of his registration, was revoked.

The Government attached to its motion a copy of the Proposed Decision, rendered by Administrative Law Judge Hoover, In the Matter of the Supplemental Accusation and Petition to Revoke Probation Against John Arthur Thomassen, D.D.S., case number 01-97-1208, dated March 22, 2000. Judge Hoover proposed revocation of the Respondent's probation and state license. The Government also attached the Decision of the Dental Board of California, Department of Consumer Affairs, State of California (Board), In the Matter of the Supplemental Accusation and Petition to Revoke Probation Against John Arthur Thomassen, D.D.S., case number 01-97-1208, dated April 3, 2000. The Board adapted the Administrative Law Judge's decision as its own, to take effect on May 3, 2000.

In light of these attachments, the Government argues that Respondent does not have a valid license to practice dentistry or to handle controlled substances in the jurisdiction indicated on his DEA Certificate of Registration.

By an Order dated March 16, 2000, Judge Randall inter alia stayed the proceedings pending the resolution of the Government's motion, and she allowed the Respondent until April 6, 2001, to respond to the Government's motion. No response has been received from Respondent as of this date.

The Administrator has considered the record in its entirety, and pursuant to 21 CFR 1316.67, hereby issues his final order based upon findings of fact and conclusions of law as hereinafter set forth. The Administrator adopts in full the Opinion and Recommended Decision of the Administrative Law Judge.

The DEA does not have the statutory authority pursuant to the Controlled Substances Act to issue or to maintain a registration if the applicant or registrant is without state authority to handle controlled substances in the state in which he or she practices. See 21 U.S.C. 802(21), 823(f), and 824(a)(3). This prerequisite has been consistently upheld in prior DEA cases. See Graham Travers Schuler, M.D., 65 FR 50570 (2000); Romeo J. Perez, M.D., 62 FR 16,193 (1997); Demetris A. Green, M.D., 61 FR 60728 (1996); Dominick A. Ricci, M.D., 58 FR 51104 (1993).

In the instant case, the Administrator finds the Government has presented evidence demonstrating that the Respondent is not authorized to practice dentistry in California, and therefore, the Administrator infers that Respondent is also not authorized to handle controlled substances in California, where he conducts his business, according to the address listed on his DEA Certificate of Registration. The Administrator finds that Judge Randall allowed Respondent ample time to refute the Government's evidence, and that Respondent has submitted no evidence or assertions to the contrary. Thus, there is no genuine issue of material fact concerning Respondent's lack of authorization to practice dentistry in California or to handle controlled substances in that State.

The Administrator concurs with Judge Randall's finding that it is well settled that when there is no question of material fact involved, there is no need for a plenary, administrative hearing. Congress did not intend for administrative agencies to perform meaningless tasks. See Michael G. Dolin, M.D., 65 FR 5661 (2000); Jesus R. Juarez, M.D., 62 FR 14945 (1997); see also Philip E. Kirk, M.D., 48 FR 32887 (1983), aff'd sub nom. Kirk v. Mullen, 749 F.2d 297 (6th Cir. 1984).

Accordingly, the Administrator of the Drug Enforcement Administration, pursuant to the authority vested in him by 21 U.S.C. 823 and 824 and 28 CFR 0.100(b) and 0.104, hereby orders that DEA Certificate of Registration BT0666000, issued to John Arthur Thomassen, D.D.S., be, and it hereby is, revoked; and that any pending applications for the renewal or modifications of said Certificate be denied. This order is effective November 19, k2001.

Dated: October 10, 2001.
Asa Hutchinson,
Administrator.

[FR Doc. 01-26180 Filed 10-17-01; 8:45 am]

BILLING CODE 4410-09-M